DEPARTMENT OF AGRICULTURE

Food and Nutrition Service

Agency Information Collection Activities: Proposed Collection; Comment Request; Food Stamp Program Regulations, Part 275—Quality Control

AGENCY: Food and Nutrition Service, USDA.

ACTION: Notice.

SUMMARY: As required by the Paperwork Reduction Act of 1995, this notice invites the general public and other public agencies to comment on the proposed information collection for Food Stamp Program Regulations, Part 275—Quality Control. Specifically, this is the burden associated with the collection of information for the sampling plan, the arbitration process, and the good cause process. This proposed collection is a revision of a collection currently approved under OMB No. 0584-0303.

DATES: Written comments must be submitted on or before May 22, 2007.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Send comments and requests for copies of this information collection to: Daniel Wilusz, Chief, Quality Control Branch, Program Accountability Division, Food and Nutrition Service, U.S. Department of Agriculture, 3101 Park Center Drive, Room 822, Alexandria, VA 22302. You may FAX comments on this notice to (703) 305-0928. You may also download an electronic version of this notice at http://www.fns.usda.gov/fsp/rules/Regulations/default.htm and comment via e-mail at Daniel.Wilusz@fns.usda.gov.

All responses to this notice will be included in the request for OMB approval.

All comments will also become a matter of public record.

FOR FURTHER INFORMATION CONTACT: Requests for additional information or copies of the information collection should be directed to Daniel Wilusz at (703) 305-2460.

SUPPLEMENTARY INFORMATION:

Title: Food Stamp Program Regulations, Part 275—Quality Control.

OMB Number: 0584-0303.

Expiration Date: August 31, 2007.

Type of Request: Revision of a currently approved collection of information.

Abstract: There are three components of the Quality Control (QC) system that are covered in this proposed information collection. They are: (1) The sampling plan; (2) the arbitration process; and (3) the good cause process. Each State is required to develop a sampling plan that demonstrates the integrity of its case selection procedures. The QC system is designed to measure each State agency's payment error rate based on a statistically valid sample of food stamp cases. A State agency's payment error rate represents the proportion of cases that were reported through a QC review as being ineligible, overissued and underissued food stamp benefits.

The QC system contains procedures for resolving differences in review findings between State agencies and FNS. This is referred to as the arbitration process. The QC system also contains procedures that provide relief for State agencies from all or a part of a QC liability when a State agency can demonstrate that a part or all of an excessive error rate was due to an unusual event that had an uncontrollable impact on the State agency's payment error rate. This is referred to as the good cause process.

The approved burden for the QC system includes the burden for the QC sampling plan, the arbitration process, and the good cause process. The annual reporting burden associated with the QC sampling plan remains at 265 hours. We estimate the annual reporting burdens associated with arbitration and good cause processes to total 350 hours and 160 hours respectively. The decrease in the proposed burden from the currently approved 1643 to 350 hours for the arbitration process is due to a re-determination in the number of State agencies estimated to respond from 53 to 14 and to the estimated number of responses per State agency from 3.1 to 2.5. These decreases are a result of State agencies more frequently agreeing with FNS' findings. The proposed annual reporting burden for the good cause process is unchanged from the currently approved burden of 160 hours.

The proposed annual recordkeeping burden associated with the QC sampling plan is 1.25 hours per year. The proposed annual recordkeeping burdens associated with arbitration and good cause processes are estimated to total .83 and .0236 hours respectively. The recordkeeping burden for the arbitration process decreased from 3.89 hours to .83 hours due to a re-determination in the estimated number of affected State agencies from 53 to 14 and the estimated number of responses per State decreased from 3.1 to 2.5. The recordkeeping burden for the good cause process decreased from 1.25 to .0236 hours due to a re-determination in the estimated number of affected State agencies from 53 to 1 per year. The total annual burden for the QC system, as proposed by this notice, decreased from 2074 to 777 hours.

Quality Control System Reporting Burden Associated With the Sampling Plan, Arbitration, and Good Cause

1. Sampling Plan

Affected Public: State agencies.

Estimated Number of Respondents: 53.

Estimated Number of Responses Per Respondent: 1.

Estimated Time Per Response: 5 hours.

Estimated Total Annual Burden Hours: 265.

2. Arbitration Process

Affected Public: State agencies.

Estimated Number of Respondents: 14.

Estimated Number of Responses Per Respondent: 2.5.

Estimated Time Per Response: 10 hours.

Estimated Total Annual Burden Hours: 350.

3. Good Cause Process

Affected Public: State agencies.

Estimated Number of Respondents: 1.

Estimated Number of Responses: 1.

Estimated Time Per Response: 160 hours.

Estimated Total Annual Burden Hours: 160.

Quality Control System Recordkeeping Burden Associated With the Sampling Plan, Arbitration, and Good Cause

1. Sampling Plan

Estimated Number of Recordkeepers: 53.

Estimated Number of Records Per Respondent: 1.

Estimated Staff Hours Per Recordkeeping: .0236.

Estimated Total Annual Burden Hours: 1.25.

2. Arbitration Process

Estimated Number of Recordkeepers: 14.

Estimated Number of Records Per Respondent: 2.5

Estimated Staff Hours Per Recordkeeping: .0236

Estimated Total Annual Burden Hours: .83

3. Good Cause Process

Estimated Number of Recordkeepers: 1.

Estimated Number of Records: 1.

Estimated Staff Hours Per Recordkeeping: .0236.

Estimated Total Annual Burden Hours: .0236.

The Combined Quality Control System Burden (includes the burdens associated with the Sampling Plan, Arbitration and Good Cause): 777 hours.

Dated: March 16, 2007.
George A. Braley,
Acting Administrator, Food and Nutrition Service.

[FR Doc. E7-5333 Filed 3-22-07; 8:45 am]

BILLING CODE 3410-30-P